DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by July 25, 2002.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following application(s) for a permit to conduct certain activities with endangered species. This notice is provided pursuant to Section 10(c) of the Endangered Species Act of 1973, as amended (16 U.S.C. 1531, et seq.). Written data, comments, or requests for copies of these complete applications should be submitted to the Director (address above).

PRT-057065

Applicant: Perlegen Sciences, Inc., Mountain View, California

The applicant request a permit to import cell lines from chimpanzees (Pan troglodytes) born both in the wild and captivity from Gabon and the Netherlands, respectively, for the purpose of scientific research.

PRT-698170

Applicant: Field Museum of Natural History, Chicago, IL

The applicant request a renewal of their permit to export and re-import endangered and threatened specimens already accessioned into the permittee's collection for scientific research. Permittee also request authorization to salvage dead endangered and threatened specimens found in the field. This notice covers activities by permittee for a period of five years.

PRT-055366

Applicant: Newton G. Beasley, Hampton, GA

The applicant requests a permit to import the sport-hunted trophy of one male bontebok (Damaliscus pygargus dorcas) culled from a captive herd maintained under the management program of the Republic of South Africa for the purpose of enhancement of the survival of the species.

PRT-057588

Applicant: Fred C. Harteis, Harrisburg, PA

The applicant requests a permit to import the sport-hunted trophy of one male bontebok (Damaliscus pygargus dorcas) culled from a captive herd maintained under the management program of the Republic of South Africa for the purpose of enhancement of the survival of the species.

PRT-055829

Applicant: Zoological Society of San Diego, San Diego, CA

The applicant requests a permit to import one captive-born male Cabot's tragopan (Tragopan caboti) from The Old House Bird Gardens Ltd., in Reading, United Kingdom, for the purpose of enhancement of the survival of the species through captive propagation.

PRT-054186 and 054188

Applicant: Philadelphia Zoological Garden, Philadelphia, PA

The applicant requests a permit to import (PRT-054186) three captive-born male cheetah (Acinonyx jubatus) from the Cango Wildlife Ranch, Oudtshoorn, South Africa for the purpose of enhancement of the species through captive propagation and conservation education. The second request is for a permit to import (PRT-054188) biological samples from these same three specimens for the purpose of veterinary screening prior to importation of the living specimens.

Marine Mammals and Endangered Species

The public is invited to comment on the following application for a permit to conduct certain activities with endangered marine mammals. The application was submitted to satisfy requirements of the Marine Mammal Protection Act of 1972, as amended (16 U.S.C. 1361 et seq.), the Endangered Species Act of 1973, as amended (16 U.S.C. 1531, et seq.), and the regulations governing marine mammals (50 CFR part 18) and endangered species (50 CFR Part 17). Written data, comments, or requests for copies of the complete applications or requests for a public hearing on these applications should be submitted to the Director (address above). Anyone requesting a hearing should give specific reasons why a hearing would be appropriate. The holding of such a hearing is at the discretion of the Director.

PRT-051399

Applicant: Diedrich Beusse, University of Florida, Gainesville, FL

Permit Type: Take for scientific research.

Name and Number of Animals: Florida manatee (Trichechus manatus), 50 per year.

Summary of Activity to be Authorized: The applicant requests a permit to conduct passive hydrophone listening to sounds made by manatees and playback vocalizations using a boat at idle speed in the Intracoastal Waterway waters of Florida.

Source of Marine Mammals: Wild animals in the waters of Florida.

Period of Activity: Up to 5 years, if issued.

Concurrent with the publication of this notice in the Federal Register, the Division of Management Authority is forwarding copies of the above applications to the Marine Mammal Commission and the Committee of Scientific Advisors for their review.

Marine Mammals

The public is invited to comment on the following application(s) for a permit to conduct certain activities with marine mammals. The application(s) was submitted to satisfy requirements of the Marine Mammal Protection Act of 1972, as amended (16 U.S.C. 1361 et seq.) and the regulations governing marine mammals (50 CFR part 18). Written data, comments, or requests for copies of the complete applications or requests for a public hearing on these applications should be submitted to the Director (address above). Anyone requesting a hearing should give specific reasons why a hearing would be appropriate. The holding of such a hearing is at the discretion of the Director.

PRT-057467

Applicant: Robert E. Cogar, West Salem, OH

The applicant requests a permit to import a polar bear (Ursus maritimus) sport hunted from the Northern Beaufort Seapolar bear population in Canada for personal use.

PRT-057708

Applicant: Robert Talley, Norman, OK

The applicant requests a permit to import a polar bear (Ursus maritimus) sport hunted from the Lancaster Sound polar bear population in Canada for personal use.

The U.S. Fish and Wildlife Service has information collection approval from OMB through March 31, 2004, OMB Control Number 1018-0093. Federal Agencies may not conduct or sponsor and a person is not required to respond to a collection of information unless it displays a current valid OMB control number.

Dated: May 31, 2002.
Monica Farris,
Senior Permit Biologist, Branch of Permits, Division of Management Authority.

[FR Doc. 02-15916 Filed 6-24-02; 8:45 am]

BILLING CODE 4310-55-P